DEPARTMENT OF TRANSPORTATION

Pipeline and Hazardous Materials Safety Administration

[Docket No. PHMSA-2013-0084]

Pipeline Safety: Information Collection Activities, Revisions to Incident and Annual Reports for Gas Pipeline Operators

AGENCY: Pipeline and Hazardous Materials Safety Administration (PHMSA), DOT.

ACTION: Notice and request for comments.

SUMMARY: In accordance with the Paperwork Reduction Act of 1995, PHMSA invites comments on an information collection under Office of Management and Budget (OMB) Control No. 2137-0522, titled “Incident and Annual Reports for Gas Pipeline Operators.” PHMSA is preparing to revise seven forms which are included in this information collection. These forms include: PHMSA F 7100.1 Incident Report—Gas Distribution System; PHMSA F 7100.1-2 Mechanical Fitting Failure Report Form for Calendar Year 20_ for Distribution Operators; PHMSA F 7100.2 Incident Report—Natural and Other Gas Transmission and Gathering Pipeline Systems; PHMSA F 7100.2-1 Annual Report for Calendar Year 20_ Natural and Other Gas Transmission and Gathering Pipeline Systems; PHMSA F 7100.3 Incident Report—Liquefied Natural Gas Facilities; and PHMSA F 7100.3-1 Annual Report for Calendar Year 20__ Liquefied Natural Gas Facilities. In accordance with the Paperwork Reduction Act of 1995, PHMSA invites comments on the proposed revisions to these forms and instructions.

DATES: Interested persons are invited to submit comments on or before August 26, 2013.

ADDRESSES: Comments may be submitted in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of DOT, West Building, 1200 New Jersey Avenue SE., Washington, DC, between 9:00 a.m. and 5:00 p.m., Monday through Friday, except Federal holidays.

Instructions: Identify the docket number, PHMSA-2013-0084, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments, go to http://www.regulations.gov at any time or to Room W12-140 on the ground level of DOT, West Building, 1200 New Jersey Avenue SE., Washington, DC, between 9:00 a.m. and 5:00 p.m., Monday through Friday, except Federal holidays. If you wish to receive confirmation of receipt of your written comments, please include a self-addressed, stamped postcard with the following statement: “Comments on: PHMSA-2013-0084.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by email at Angela.Dow@dot.gov, by fax at 202-366-4566, or by mail at DOT, PHMSA, 1200 New Jersey Avenue SE., PHP-30, Washington, DC 20590-0001.

SUPPLEMENTARY INFORMATION:

I. Background

Section 1320.8(d), Title 5, Code of Federal Regulations, requires PHMSA to provide interested members of the public and affected agencies an opportunity to comment on information collection and recordkeeping requests. This notice identifies an information collection request that PHMSA will be submitting to OMB for revision. The information collection expires February 28, 2014, and is identified under OMB Control No. 2137-0522, titled: “Incident and Annual Reports for Gas Pipeline Operators.” PHMSA is considering the revision of the seven forms that are contained within this information collection. The revisions to each of the forms are described below.

A. Gas Distribution Incident Report (PHMSA F. 7100.1)

PHMSA intends to revise the PHMSA F 7100.1 Incident Report—Gas Distribution System Form (GD Incident Report Form) by adding a pipe material type, adding a commodity type, changing system types, removing a system type, requiring additional fields, and revising the instructions. Background for these topics is as follows:

1. Adding Pipe Material Type of Reconditioned Cast Iron

PHMSA recognizes that reconditioned cast iron pipe may be used in gas distribution systems. This new pipe material type will be added as an option in part C4.

2. Adding Commodity of Landfill Gas

PHMSA recognizes that gas distribution pipelines may transport gas produced in landfills. In order to differentiate this type of gas, the additional commodity choice is being added to part A9.

3. Changing System Types

Currently, part C1 is intended to identify the system type. However, the options are a combination of system types and commodity data. PHMSA proposes to modify the GD Incident Report Form to allow these choices for system type: Municipal, Privately Owned, and Other (e.g., cooperatives, public utility districts, etc.) Commodity data is entered in part A9.

4. Revise Instructions for National Response Center Report Number

PHMSA proposes to require a National Response Center (NRC) number in every GD Incident Report Form submission. PHMSA recognizes that in some cases an operator may submit multiple NRC reports for a single incident. An operator will be able to enter a single NRC number or select one of the following: NRC notification not required; NRC notification required but not made; or, do not know NRC report number. When there is more than one NRC report for an incident, an operator will be able to enter the first NRC report in this field and remaining NRC report numbers in Part H—Narrative.

5. Revise Instructions for City

Currently, the city field is not required as part of the report. While the vast majority of reports include the city, there have been occasions when the data should have been entered, but was not. PHMSA proposes to require the city field in every GD Incident Report Form submission to facilitate understanding about the location of the incident. Operators will also be able to enter “not within a municipality” in this field.

6. Revise Instructions for County or Parish

Currently, the county or parish field is not required as part of the report. While the vast majority of reports include the county or parish, there have been occasions when the data has not been entered. PHMSA proposes to require the county or parish field in every GD Incident Report Form submission to further facilitate understanding about the location of the incident.

7. Revise Instructions for Incident Preparer and Authorizer

Currently, operator contact information is not required, although it is often included. PHMSA proposes to require the name, email address, and phone number for each of these individuals in every GD Incident Report Form submission. PHMSA and state investigators need this contact information to facilitate communication with the operator. If an individual does not have a work email address, the operator will be able to enter “no email address” in this field.

8. Estimated Responses/Burden Hours Revisions

The vast majority of GD Incident Report Form reports already include the information described above or the information is readily available, so PHMSA does not anticipate an increase in the information collection burden for these changes.

B. Mechanical Fitting Failure Report Form (PHMSA F. 7100.1-2)

PHMSA intends to revise the PHMSA F 7100.1-2 Gas Distribution Mechanical Fitting Failures (MFF Report Form) to improve the granularity of the data collected and provide clarification to operators for selecting the cause of the mechanical fitting failure. Background for this topic is as follows:

1. Reporting “Incorrect Operation” as an Apparent Cause

PHMSA proposes to revise Question 15, “Apparent Cause of Leak,” under Part C of the MFF Report Form. PHMSA is proposing to remove the option of reporting a “Construction/Installation Defect” from the “Material or Welds/Fusions” apparent cause category and revise the category to “Incorrect Operation.” The apparent cause of “Incorrect Operation” should be identified when an operator reports a failure that apparently results from incorrect installation of the mechanical fitting. It is PHMSA's intent to capture failure data under the “Material or Welds/Fusions” leak cause category that is specific to manufacture, fabrication, material, and design defects of mechanical fittings.

2. Estimated Responses/Burden Hours Revisions

Currently, PHMSA estimates that 18,000 MFF Report Form submissions will be filed on an annual basis. In addition, PHMSA estimates that each submission will take about one hour to submit to PHMSA. Based on the MFF Report Form filings over the past year, PHMSA proposes to revise its estimate of the annual number of MFF Report Form submissions to 8,300 submissions (a 9,700 reduction). Based on electronic submission, PHMSA also proposes to revise its estimated time to file a report from one hour per submission to 30 minutes per submission. The resulting burden changes to information collections are described below.

C. Incident Report—Natural and Other Gas Transmission and Gathering Pipeline System (PHMSA F 7100.2)

PHMSA proposes to revise the PHMSA F 7100.2 Incident Report—Natural and Other Gas Transmission and Gathering Pipeline Systems Form (GTG Incident Report Form) by restoring a data element for how the maximum allowable operating pressure (MAOP) was determined, adding a commodity type, requiring additional fields, and revising the instructions. Background for these topics is as follows:

1. Restore MAOP Established by Section

In the 01-2002 edition of the GTG Incident Report Form, Part A2 collected data about how the MAOP of the pipeline system was established. This data element was removed when the form was revised in 2010. Through comments submitted in Docket PHMSA-2012-0024, the Interstate Natural Gas Association of America and other commenters strongly urged PHMSA to restore this data element. PHMSA is proposing to add the method of establishing MAOP in Part E of the GTG Incident Report Form. Response options will be the same as those found in Part Q of Form PHMSA F 7100.2-1 Annual Report for Calendar Year 20_ Natural and Other Gas Transmission and Gathering Pipeline Systems (GTG Annual Report Form). Furthermore, operators will be able to supplement GTG Incident Report Form submissions for incidents occurring after January 1, 2010 to populate this field.

2. Adding Commodity of Landfill Gas

PHMSA recognizes that gas transmission and gathering pipelines may transport gas produced in landfills. To differentiate this type of gas, PHMSA is proposing to add Landfill Gas as another commodity choice in Part A9.

3. Revise Instructions for National Response Center Report Number

PHMSA proposes to require this field (Part A6) in every GTG Incident Report Form submission. An operator will be able to enter a single NRC number or select one of the following: NRC notification not required; NRC notification required but not made; or, do not know NRC report number. In some cases an operator may submit multiple NRC reports for a single accident. When there is more than one NRC report for an accident, an operator will be able to enter the first report in this field and remaining NRC report numbers in Part H—Narrative.

4. Revise Instructions for City

Currently, the city field is not required as part of the report. While the vast majority of reports for onshore incidents include the city, there have been occasions when the data should have been entered, but was not. PHMSA proposes to require this field (Part B4) in every GTG Incident Report Form submission for an incident that occurs onshore to facilitate understanding about the location of the incident. Operators would also be able to enter “not within a municipality” in this field.

5. Revise Instructions for County or Parish

Currently, the county or parish field is not required as part of the report. While the vast majority of reports for onshore incidents include the county or parish, there have been occasions when the data has not been entered. PHMSA proposes to require this field (Part B5) in every GTG Incident Report Form submission for an incident that occurs onshore to facilitate understanding about the location of the incident.

6. Revise Instructions for Incident Preparer and Authorizer (Part I)

Currently, operator contact information is not required, although it is often included. PHMSA proposes to require the name, email address, and phone number for each of these individuals in every GTG Incident Report Form submission. PHMSA and State investigators need this contact information to facilitate communication with the operator. If an individual does not have a work email address, the operator will be able to enter “no email address” in this field.

7. Estimated Responses/Burden Hours Revisions

The vast majority of reports already include the above-described information or the information is readily available, so PHMSA does not anticipate an increase in the information burden for these changes.

D. Annual Report—Natural and Other Gas Transmission and Gathering Pipeline Systems (PHMSA F. 7100.2-1)

PHMSA proposes to revise the PHMSA F 7100.21 Annual Report—Natural and Other Gas Transmission and Gathering Pipeline Systems Form (GTG Annual Report Form) by removing and reserving Part C. Background for this topic is as follows:

Remove Part C—Volume Transported by Transmission Lines

PHMSA has used Part C of the GTG Annual Report to collect data on the volume transported by gas transmission lines. The collection of this data excluded “transmission lines of distribution systems”. After reviewing two years of volume transported data, PHMSA has determined that the data collected is not on par with the data gas transmission operators submit to the Federal Energy Regulatory Commission (FERC). In an effort to eliminate duplicity of data submitted by operators and to ensure that the data PHMSA uses is consistent with the data being submitted to FERC, PHMSA is removing Part C of the GTG Annual Report Form. When PHMSA needs to quantify the volume of natural gas transported, we will use the FERC data which covers the largest component of the volume information.

E. Incident Report—Liquefied Natural Gas Facilities (PHMSA F 7100.3)

PHMSA proposes to revise the PHMSA F 7100.3 Incident Report—Liquefied Natural Gas Facilities form (LNG Incident Report Form) to limit location data to the state and modify the “regulated by” data. Background for these topics is as follows:

1. Limit Location Data to the State

In Part B1, the LNG Incident Report Form currently collects the latitude and longitude of the incident. The name of the LNG facility and the state are sufficient to determine the location of the incident. Therefore, PHMSA proposes to remove latitude and longitude from the LNG Incident Report Form.

2. Modify the “Regulated By” data

Currently, Part B1 collects data about whether PHMSA or a state agency inspects the facility for compliance with 49 CFR Part 193. PHMSA proposes to modify this section to match proposed modifications to the PHMSA F 7100.3-1 Annual Report for Calendar Year 20__ Liquefied Natural Gas Facilities Form (Annual Report Form). If the facility operates under a FERC certificate, the facility will be reported as interstate. Otherwise, the facility will be reported as intrastate.

3. Estimated Responses/Burden Hours Revisions

The proposed changes are designed to streamline the LNG Incident Report and allow for greater ease in reporting. While PHMSA believes the change in burden to be minimal, the proposed changes could result in a slight decrease in burden.

F. Annual Report for Calendar Year 20_ Liquefied Natural Gas Facilities (PHMSA F 7100.3-1)

PHMSA proposes to revise PHMSA F 7100.3-1-Annual Report for Calendar Year 20_ Liquefied Natural Gas Facilities (LNG Annual Report Form) to remove section A5, require entry of interstate or intrastate facility, and eliminate duplicative reporting. Background for these topics is as follows:

1. Remove A5

Section A5 was designed to allow for submitters to identify whether or not they had any changes from the report submitted the previous year. PHMSA has determined that this section provides limited value to all stakeholders and should be removed.

2. Require Entry of Interstate or Intrastate

Currently, the field within Part B for whether a facility is “Interstate or Intrastate” is not required. PHMSA proposes to require this field for every LNG Annual Report Form submission. If the facility operates under a FERC certificate, the facility should be reported as interstate. Otherwise, the facility should be reported as intrastate.

3. Remove Duplicative Reporting

Currently, a summary of reportable incident data is collected in Part C and a summary of safety-related condition data is collected in Part D of the LNG Annual Report Form. PHMSA pipeline safety regulations in Part 191 require LNG operators to submit incident reports and safety-related condition reports when certain criteria are met. Since these reports contain details about each event, the summary data in the LNG Annual Report Form is redundant. Therefore, PHMSA proposes to remove reportable incidents from Part C and safety-related conditions from Part D.

4. Estimated Responses/Burden Hours Revisions

The proposed changes are designed to streamline reporting and eliminate duplicative information. PHMSA recognizes that these changes will not affect all operators completing the LNG Annual Report and considers the change in the overall burden to be minimal. PHMSA acknowledges that the elimination of Section A5 along with the summaries of reportable incident and safety-related condition data in Parts C and D should cause a slight decrease in burden for affected operators.

II. Summary of Impacted Collection

The following information is provided for this information collection: (1) Title of the information collection; (2) OMB control number; (3) Current expiration date; (4) Type of request; (5) Abstract of the information collection activity; (6) Description of affected public; (7) Estimate of total annual reporting and recordkeeping burden; and (8) Frequency of collection. PHMSA requests comments on the following information collection, including the proposed revisions addressed in this notice:

Title: Incident and Annual Reports for Gas Pipeline and LNG Facility Operators.

OMB Control Number: 2137-0522.

Current Expiration Date: 02/28/2014.

Type of Request: Revision.

Abstract: PHMSA is looking to revise several reporting forms for gas pipeline and LNG facility operators to improve the granularity of the data collected in several areas.

Affected Public: Gas pipeline and LNG facility operators.

Annual Reporting and Recordkeeping Burden:

Total Annual Responses: 12,164.

Total Annual Burden Hours: 96,471.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on June 21, 2013.
Jeffrey D. Wiese,
Associate Administrator for Pipeline Safety.

[FR Doc. 2013-15339 Filed 6-26-13; 8:45 am]

BILLING CODE 4910-60-P